DEPARTMENT OF STATE

[Public Notice 3830]

Advisory Committee on International Communications and Information Policy; Meeting Notice

The Department of State is announcing the next meeting of its Advisory Committee on International Communications and Information Policy (ACICIP).

The Committee provides a formal channel for regular consultation and coordination on major economic, social and legal issues and problems in international communications and information policy, especially as these issues and problems involve users of information and communications services, providers of such services, technology research and development, foreign industrial and regulatory policy, the activities of international organizations with regard to communications and information, and developing country interests.

David Gross, Deputy Assistant Secretary and U.S. Coordinator for International Communications and Information Policy, will attend the meeting together with others from the Office of Communications and Information Policy at the Department of State. Items on the agenda will include communications policy issues, discussion regarding countries of particular interest to ACICIP, general discussion of the bilateral foreign consultation process, and differences between the US and EU approaches on internet service regulation. Mr. Gross also would like to solicit ideas from ACICIP on methods to improve communications between industry and the Department of State, as well as on specific issues of interest related to upcoming bilateral meetings with Argentina, Brazil, the European Commission, France, and the United Kingdom, as well as potential meetings elsewhere.

This meeting will be held on Thursday, January 10, 2002, from 9:30 a.m. to 12 p.m. in Room 1105 of the Main Building of the U.S. Department of State, located at 2201 “C” Street, NW., Washington, DC 20520.

Members of the public may attend these meetings up to the seating capacity of the room. While the meeting is open to the public, admittance to the Department of State building is only by means of a pre-arranged clearance list. In order to be placed on the pre-clearance list, please provide your name, title, company, social security number, date of birth, and citizenship to Pamela M. Bates at <batespm2@state.gov> no later than 5 p.m. on Tuesday, January 8, 2002. All attendees for this meeting must use the 23rd Street entrance. One of the following valid ID's will be required for admittance: any U.S. driver's license with photo, a passport, or a U.S. government agency ID. Non-U.S. government attendees must be escorted by Department of State personnel at all times when in the building.

For further information, please contact Pamela M. Bates, Executive Secretary of the Committee, at (202) 647-5820 or<batespm2@state.gov>.

Dated: December 10, 2001.
Pamela M. Bates,
Executive Secretary, Advisory Committee on International Communications and Information Policy, Department of State.

[FR Doc. 01-31027 Filed 12-17-01; 8:45 am]

BILLING CODE 4710-07-P